DEPARTMENT OF THE INTERIOR

Bureau of Land Management

[LLWO260000 L10600000 XQ0000]

Notice of Call for Nominations for the Wild Horse and Burro Advisory Board

AGENCY: Bureau of Land Management, Interior.

ACTION: Notice.

SUMMARY: The purpose of this notice is to solicit public nominations for three positions on the Wild Horse and Burro Advisory Board (Board). The Board provides advice concerning the management, protection, and control of wild free-roaming horses and burros on the public lands administered by the Department of the Interior, through the Bureau of Land Management (BLM), and the Department of Agriculture, through the U.S. Forest Service.

DATES: Nominations must be post marked or submitted to the address listed below no later than August 16, 2013.

ADDRESSES: All mail sent via the U.S. Postal Service should be sent as follows: National Wild Horse and Burro Program, U. S. Department of Interior, Bureau of Land Management, 1849 C Street NW., Room 2134 LM, Attn: Sharon Kipping, WO 260, Washington, DC 20240. All mail and packages that are sent via FedEx or UPS should be addressed as follows: National Wild Horse and Program, U. S. Department of Interior, Bureau of Land Management, 20 M Street SE., Room 2134 LM, Attn: Sharon Kipping, Washington, DC 20003. You may also send a fax to Sharon Kipping at 202-912-7182, or email her at skipping@blm.gov.

FOR FURTHER INFORMATION CONTACT: Sharon Kipping, Wild Horse and Burro Program Specialist, 202-912-7263. Persons who use a telecommunications device for the deaf (TDD) may call the Federal Information Relay Service (FIRS) at 1-800-877-8339 to contact the above individual during normal business hours. The FIRS is available 24 hours a day, 7 days a week. You will receive a reply during normal business hours.

SUPPLEMENTARY INFORMATION: Members of the Board serve without compensation. However, while away from their homes or regular places of business, Board and subcommittee members engaged in Board or subcommittee business, approved by the Designated Federal Official (DFO), may be allowed travel expenses, including per diem in lieu of subsistence, in the same manner as persons employed intermittently in government service under Section 5703 of Title 5 of the United States Code. Nominations for a term of 3-years are needed to represent the following categories of interest:

Wild Horse and Burro Research

Natural Resource Management

Public Interest (Equine Behavior)

The Board will meet no less than two times annually. The DFO may call additional meetings in connection with special needs for advice. Individuals may nominate themselves or others. Any individual or organization may nominate one or more persons to serve on the Board. Nominations will not be accepted without a complete resume. The following information must accompany all nominations for the individual to be considered for a position:

1. The position(s) for which the nominee wishes to be considered;

2. The nominee's first, middle, and last name;

3. Business address and phone number:

4. Home address and phone number:

5. Email address;

6. Present occupation/title and employer;

7. Education (colleges, degrees, major field of study);

8. Career Highlights: Significant related experience, civic and professional activities, elected offices (include prior advisory committee experience or career achievements related to the interest to be represented). Attach additional pages, if necessary;

9. Qualifications: Education, training, and experience that qualify you to serve on the Board;

10. Experience or knowledge of wild horse and burro management;

11. Experience or knowledge of horses or burros: (Equine health, training, and management);

12. Experience in working with disparate groups to achieve collaborative solutions (e.g., civic organizations, planning commissions, school boards, etc.);

13. Indicate any BLM permits, leases, or licenses held by you or your employer;

14. Indicate whether you are a federally registered lobbyist; and

15. Explain why you want to serve on the Board.

Attach or have at least one letter of reference sent from special interests or organizations you may represent, including, but not limited to, business associates, friends, co-workers, local, state, and/or Federal government representatives, or members of Congress. Please include any other information that speaks to your qualifications.

As appropriate, certain Board members may be appointed as special government employees. Special government employees serve on the Board without compensation, and are subject to financial disclosure requirements in the Ethics in Government Act and 5 CFR part 2634. Nominations are to be sent to the address listed under ADDRESSES above.

Privacy Act Statement: The authority to request this information is contained in 5 U.S.C. 301, the Federal Advisory Committee Act (FACA), and Part 1784 of Title 43, Code of Federal Regulations. It is used by the appointment officer to determine education, training, and experience related to possible service on an advisory council of the BLM. If you are appointed as an advisor, the information will be retained by the appointing official for as long as you serve. Otherwise, it will be destroyed 2 years after termination of your membership or returned (if requested) following announcement of the Board's appointments. Submittal of this information is voluntary. However, failure to complete any or all items will inhibit fair evaluation of your qualifications, and could result in you not receiving full consideration for appointment.

Membership Selection: Individuals shall qualify to serve on the Board because of their education, training, or experience that enables them to give informed and objective advice regarding the interest they represent. They should demonstrate experience or knowledge of the area of their expertise and a commitment to collaborate in seeking solutions to resource management issues. The Board is structured to provide fair membership and balance, both geographic and interest specific, in terms of the functions to be performed and points of view to be represented. Members are selected with the objective of providing representative counsel and advice about public land and resource planning. No person is to be denied an opportunity to serve because of race, age, sex, religion, or national origin. The Obama Administration prohibits individuals who are currently federally registered lobbyists to serve on all FACA and non-FACA boards, committees or councils. Pursuant to Section 7 of the Wild Free-Roaming Horses and Burros Act, members of the Board cannot be employed by either Federal or state governments.

Authority: 43 CFR 1784.4-1.

Edwin L. Roberson,
Assistant Director, Renewable Resources and Planning.

[FR Doc. 2013-15873 Filed 7-1-13; 8:45 am]

BILLING CODE 4310-84-P